DEPARTMENT OF COMMERCE

Foreign-Trade Zones Board

[Docket 21-2010]

Foreign-Trade Zone 272—Lehigh Valley, Pennsylvania Application for Subzone Grundfos Pumps Manufacturing Corporation (Multi-Stage Centrifugal Pumps); Allentown, PA

An application has been submitted to the Foreign-Trade Zones Board (the Board) by the Lehigh Valley Economic Development Corporation, grantee of FTZ 272, requesting special-purpose subzone status for the multi-stage centrifugal pump manufacturing facility of Grundfos Pumps Manufacturing Corporation (Grundfos), located in Allentown, Pennsylvania. The application was submitted pursuant to the provisions of the Foreign-Trade Zones Act, as amended (19 U.S.C. 81a-81u), and the regulations of the Board (15 CFR part 400). It was formally filed on March 24, 2010.

The Grundfos facility (15 employees, 7.4 acres, capacity—20,000 pumps annually) is located at 2200 Hangar Place, Allentown, Pennsylvania. The facility is used for the manufacture and assembly of multi-stage centrifugal pumps used in commercial, residential, heating/ventilation, and waste water applications. Components and materials sourced from abroad (representing 65% of the value of the finished pumps) include: Pump parts, electric motors, plastic closures and o-rings, rubber o-rings and gaskets, labels, pipe fittings, fasteners, motor couplings, and paper gaskets (duty rates range from free to 8.5 percent).

FTZ procedures could exempt Grundfos from customs duty payments on the foreign components used in export production. The company anticipates that some 20 percent of the plant's shipments will be exported. On its domestic sales, Grundfos would be able to choose the duty rates during customs entry procedures that apply to finished centrifugal pumps (duty free) for the foreign inputs noted above. FTZ designation would further allow Grundfos to realize logistical benefits through the use of weekly customs entry procedures. Customs duties also could possibly be deferred or reduced on foreign status production equipment. The request indicates that the savings from FTZ procedures would help improve the plant's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for their receipt is June 1, 2010. Rebuttal comments in response to material submitted during the foregoing period may be submitted during the subsequent 15-day period to June 14, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz. For further information, contact Pierre Duy at Pierre.Duy@trade.gov or (202) 482-1378.

Dated: March 24, 2010.
Andrew McGilvray,
Executive Secretary.

[FR Doc. 2010-7072 Filed 3-29-10; 8:45 am]

BILLING CODE P